DEPARTMENT OF DEFENSE

Defense Acquisition Regulations System

48 CFR Parts 201, 204, 212, 216, 225, 227, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective December 6, 2013.

FOR FURTHER INFORMATION CONTACT: Mr. Manuel Quinones, Defense Acquisition Regulations System, OUSD(AT&L)DPAP(DARS), Room 3B855, 3060 Defense Pentagon, Washington, DC 20301-3060. Telephone 571-372-6088; facsimile 571-372-6094.

SUPPLEMENTARY INFORMATION: This final rule amends the DFARS as follows:

1. Revises the section heading at 201.603 for consistency with the FAR.

2. Corrects 204.7207(a) to conform to the FAR by changing “clause” to “provision.”

3. Corrects typographical error at 203.906(1).

4. Removes 212.301(f)(xlii) as a result of changes under DFARS final rule 2013-D037, published on November 18, 2013.

5. Corrects cross-reference at 216.405-2-71(b) as a result of changes under DFARS final rule 2013-D037, published on November 18, 2013.

6. Corrects e-CFR by removing subsections 225.370-1 through 225.370-6.

7. Corrects the hyperlink at 225.7401(b).

8. Removes table of contents heading at 227.7203-7.

9. Correct office designation at 252.225-7004 and 252.225-7006.

List of Subjects in 48 CFR Parts 201, 204, 212, 216, 225, 227, and 252

Government procurement.

Manuel Quinones,
Editor, Defense Acquisition Regulations System.

Therefore, 48 CFR Parts 201, 204, 212, 216, 225, 227, and 252 are amended as follows:

1. The authority citation for 48 CFR Parts 201, 204, 212, 216, 225, 227, and 252 continues to read as follows:

Authority: 41 U.S.C. 1303 and 48 CFR chapter 1.

PART 201—FEDERAL ACQUISITION REGULATIONS SYSTEM

201.603 [Amended]

2. Section heading at 201.603 is amended by removing “termination of appointment” and adding “termination of appointment for contracting officers” in its place.

203.906 [Amended]

3. Section 203.906(1) is amended by removing “203.903;” and adding “203.903” in its place.

PART 204—ADMINISTRATIVE MATTERS

204.7207 [Amended]

4. Section 204.7207 paragraph (a) is amended by removing the word “clause” and adding the word “provision” in its place.

PART 212—ACQUISITION OF COMMERCIAL ITEMS

212.301 [Amended]

5. Section 212.301 is amended by removing paragraph (f)(xlii) and redesignating (f)(xliii) through (lxviii) as (f)(xlii) through (lxvii).

PART 216—TYPES OF CONTRACTS

216.405-2-71 [Amended]

6. Section 216.405-2-71 paragraph (b) is amended by removing “252.225-7039” and adding “FAR 52.225-26” in its place.

PART 225—FOREIGN ACQUISITION

225.370-1 through 225.370-6 [Removed]

7. Remove sections 225.370-1 through 225.370-6.

225.7401 [Amended]

8. Section 225.7401 paragraph (b) is amended by removing “http://www.per.hqusareur.army.mil/cpd/docper/GermanyDefault.aspx” and adding “http://www.eur.army.mil/g1/content/CPD/docper.html” in its place.

PART 227—PATENTS, DATA, AND COPYRIGHTS

227.7203-7 [Removed]

9. Remove reserved section 227.7203-7.

PART 252—SOLICITATION PROVISIONS AND CONTRACT CLAUSES

252.225-7004 [Amended]

10. Section 252.225-7004 paragraph (c)(5) is amended by removing “OUSD(AT&L)DPAP(CPIC),” and adding “OUSD(AT&L) DPAP/CPIC,” in its place.

252.225-7006 [Amended]

11. Section 252.225-7006 paragraph (d) is amended by removing “OUSD(AT&L)DPAP(CPIC)” and adding “OUSD(AT&L) DPAP/CPIC” in its place.

[FR Doc. 2013-29146 Filed 12-5-13; 8:45 am]

BILLING CODE 5001-06-P